NUCLEAR REGULATORY COMMISSION

[EA-05-007]

Certain Licensees Authorized To Possess and Transfer Items Containing Radioactive Material Quantities of Concern; Order Imposing Additional Security Measures (Effective Immediately)

The Licensees identified in Attachment A to this Order hold licenses issued by the U.S. Nuclear Regulatory Commission (NRC or Commission) or an Agreement State, in accordance with the Atomic Energy Act of 1954, as amended, and 10 CFR parts 50, 70 and 71, or equivalent Agreement State regulations. The licenses authorize them to possess and transfer items containing radioactive material quantities of concern. This Order is being issued to all such Licensees who may transport radioactive material quantities of concern under the NRC's authority to protect the common defense and security, which has not been relinquished to the Agreement States. The Orders require compliance with specific additional security measures to enhance the security for transport of certain radioactive material quantities of concern.

On September 11, 2001, terrorists simultaneously attacked targets in New York, NY, and Washington, DC, utilizing large commercial aircraft as weapons. In response to the attacks and intelligence information subsequently obtained, the Commission issued a number of Safeguards and Threat Advisories to Licensees in order to strengthen Licensees' capabilities and readiness to respond to a potential attack on this regulated activity. The Commission has also communicated with other Federal, State and local government agencies and industry representatives to discuss and evaluate the current threat environment in order to assess the adequacy of the current security measures. In addition, the Commission commenced a comprehensive review of its safeguards and security programs and requirements.

As a result of its initial consideration of current safeguards and security requirements, as well as a review of information provided by the intelligence community, the Commission has determined that certain security measures are required to be implemented by Licensees as prudent, interim measures to address the current threat environment in a consistent manner. Therefore, the Commission is imposing requirements, as set forth in Attachment B ¹ of this Order, on all Licensees identified in Attachment A of this Order. These additional security measures, which supplement existing regulatory requirements, will provide the Commission with reasonable assurance that the common defense and security continue to be adequately protected in the current threat environment. These additional security measures will remain in effect until the Commission determines otherwise.

¹ Attachment B contains Safeguards Information and will not be released to the public.

The Commission recognizes that Licensees may have already initiated many of the measures set forth in Attachment B to this Order in response to previously issued Safeguards and Threat Advisories or on their own. It is also recognized that some measures may not be possible or necessary for all shipments of radioactive material quantities of concern, or may need to be tailored to accommodate the Licensees' specific circumstances to achieve the intended objectives and avoid any unforeseen effect on the safe transport of radioactive material quantities of concern.

Although the security measures implemented by Licensees in response to the Safeguards and Threat Advisories have been adequate to provide reasonable assurance of adequate protection of common defense and security, in light of the continuing threat environment, the Commission concludes that the security measures must be embodied in an Order, consistent with the established regulatory framework. The Commission has determined that the security measures contained in Attachment B of this Order contains Safeguards Information and will not be released to the public as per Order entitled, “Issuance of Order Imposing Requirements for Protecting Certain Safeguards Information,” issued on November 5, 2004.” To provide assurance that Licensees are implementing prudent measures to achieve a consistent level of protection to address the current threat environment, all licensees identified in Attachment A to this Order shall implement the requirements identified in Attachment B to this Order. In addition, pursuant to 10 CFR 2.202, I find that in light of the common defense and security matters identified above, which warrant the issuance of this Order, the public health and safety require that this Order be immediately effective.

Accordingly, pursuant to Sections 53, 63, 81, 103, 104, 161b, 161i, 161o, 182 and 186 of the Atomic Energy Act of 1954, as amended, and the Commission's regulations in 10 CFR 2.202 and 10 CFR Parts 50, 70 and 71, it is hereby ordered, effective immediately, that all licensees identified in attachment A to this order shall comply with the following:

A. All Licensees shall, notwithstanding the provisions of any Commission or Agreement State regulation or license to the contrary, comply with the requirements described in Attachment B to this Order. The Licensees shall immediately start implementation of the requirements in Attachment B to the Order and shall complete implementation by January 17, 2006, or before the licensee's next shipment after the 180 day implementation period of this Order. This Order supersedes the additional transportation security measures prescribed in the Manufacturer's and Distributor's Order issued January 12, 2004.

B. 1. All Licensees shall, within twenty (20) days of the date of this Order, notify the Commission, (1) if they are unable to comply with any of the requirements described in Attachment B, (2) if compliance with any of the requirements is unnecessary in their specific circumstances, or (3) if implementation of any of the requirements would cause the Licensee to be in violation of the provisions of any Commission or Agreement State regulation or its license. The notification shall provide the Licensees' justification for seeking relief from or variation of any specific requirement.

2. Any Licensee that considers that implementation of any of the requirements described in Attachment B to this Order would adversely impact the safe transport of radioactive material quantities of concern must notify the Commission, within twenty (20) days of this Order, of the adverse safety impact, the basis for its determination that the requirement has an adverse safety impact, and either a proposal for achieving the same objectives specified in the Attachment B requirement in question, or a schedule for modifying the activity to address the adverse safety condition. If neither approach is appropriate, the Licensee must supplement its response to Condition B.1 of this Order to identify the condition as a requirement with which it cannot comply, with attendant justifications as required in Condition B.1.

C. All Licensees shall report to the Commission when they have achieved full compliance with the requirements described in Attachment B.

D. Notwithstanding any provisions of the Commission's or an Agreement State's regulations to the contrary, all measures implemented or actions taken in response to this order shall be maintained until the Commission determines otherwise.

Licensee responses to Conditions B.1, B.2, and C above shall be submitted to the Document Control Desk, ATTN: Director, Office of Nuclear Reactor Regulation, U.S. Nuclear Regulatory Commission, Washington, DC 20555. In addition, Licensee submittals that contain sensitive security related information shall be properly marked and handled in accordance with Licensees' Safeguards Information or Safeguards Information—Modified Handling program.

The Director, Office of Nuclear Reactor Regulation may, in writing, relax or rescind any of the above conditions upon demonstration by the Licensee of good cause.

In accordance with 10 CFR 2.202, the Licensee must, and any other person adversely affected by this Order may, submit an answer to this Order, and may request a hearing on this Order, within twenty (20) days of the date of this Order. Where good cause is shown, consideration will be given to extending the time to request a hearing. A request for extension of time in which to submit an answer or request a hearing must be made in writing to the Director, Office of Nuclear Reactor Regulation, U.S. Nuclear Regulatory Commission, Washington, DC 20555, and include a statement of good cause for the extension. The answer may consent to this Order. Unless the answer consents to this Order, the answer shall, in writing and under oath or affirmation, specifically set forth the matters of fact and law on which the Licensee or other person adversely affected relies and the reasons as to why the Order should not have been issued. Any answer or request for a hearing shall be submitted to the Secretary, Office of the Secretary of the Commission, U.S. Nuclear Regulatory Commission, ATTN: Rulemakings and Adjudications Staff, Washington, DC 20555. Copies also shall be sent to the Director, Office of Nuclear Reactor Regulation, U.S. Nuclear Regulatory Commission, Washington, DC 20555, to the Assistant General Counsel for Materials Litigation and Enforcement, to the Office of Enforcement at the same address, to the Regional Administrator for NRC Region I, II, III, or IV, at the respective addresses specified in Appendix A to 10 CFR Part 73, appropriate for the specific facility, and to the Licensee if the answer or hearing request is by a person other than the Licensee. Because of possible disruptions in delivery of mail to United States Government offices, it is requested that answers and requests for hearing be transmitted to the Secretary of the Commission either by means of facsimile transmission to 301-415-1101 or by e-mail to hearingdocket@nrc.gov and also to the Office of the General Counsel either by means of facsimile to 301-415-3725 or by e-mail to OGCMailCenter@nrc.gov. If a person other than the Licensee requests a hearing, that person shall set forth with particularity the manner in which his interest is adversely affected by this Order and shall address the criteria set forth in 10 CFR 2.714(d).

If a hearing is requested by the Licensee or a person whose interest is adversely affected, the Commission will issue an Order designating the time and place of any hearing. If a hearing is held, the issue to be considered at such hearing shall be whether this Order should be sustained.

Pursuant to 10 CFR 2.202(c)(2)(i), the Licensee, may, in addition to demanding a hearing, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section III above shall be final twenty (20) days from the date of this Order without further order or proceedings. If an extension of time for requesting a hearing has been approved, the provisions specified in Section III shall be final when the extension expires if a hearing request has not been received. An answer or a request for hearing shall not stay the immediate effectiveness of this order.

Dated this 19th day of July 2005.
For The Nuclear Regulatory Commission.
J.E. Dyer,
Director, Office of Nuclear Reactor Regulation.

Attachment A—List of Licensees

Research and Test Reactor Licensees

Mr. Ray Tsukimura, President, Aerotest Operations Inc., 3455 Fostoria Way, San Ramon, CA 94583

Mr. Stephen I. Miller, Reactor Facility Director, Armed Forces Radiobiology Research Institute, Naval Medical Center 8901 Wisconsin Ave., Bethesda, MD 20889-5603

Mr. Howard C. Aderhold, Director, Ward Center for Nuclear Sciences, Cornell University, 112 Ward Laboratory, Ithaca, NY 14853

Mr. Ward L. Rigot, Facility Director and Reactor Supervisor, Dow Chemical Company, 1602 Building, Midland, MI 48674

Dr. Keith E. Asmussen, General Atomics 3550 General Atomics Court, San Diego, CA 92121-1122

Mr. David Turner, Vallecitos Nuclear Center, General Electric Company, 6705 Vallecitos Road, Sunol, CA 94586

Dr. John S. Bennion, Reactor Manager/Supervisor, Idaho State University, P.O. Box 8060, Pocatello, ID 83209

Mr. Michael Whaley, Manager, KSU Nuclear Reactor Facility 112 Ward Hall, Kansas State University, Manhattan, KS 66506-5204

Dr. John Bernard, Director of Reactor Operations, Nuclear Reactor Laboratory, Massachusetts Institute of Technology 138 Albany Street, Mail Stop NW 12-208, Cambridge, MA 02139

Mr. Andrew Cook, Nuclear Reactor Program, North Carolina State University, 2500 Stinson Drive, Raleigh, NC 27695

Dr. Seymour H. Weiss, NIST Center for Neutron Research, National Institute of Standards and Technology, U.S. Department of Commerce, 100 Bureau Drive, Stop 8561, Gaithersburg, MD 20899-8561

Mr. Gerald D. Wicks, Nuclear Reactor Program, North Carolina State University, 2500 Stinson Drive, Raleigh, NC 27695

Mr. Andrew C. Kauffman, The Ohio State University Nuclear Reactor Laboratory, 1298 Kinnear Road, Columbus OH, 43212-1154

Mr. Steve Reece, 100 Radiation Center, Oregon State University, Corvallis, OR 97331

Dr. Fred Sears, Breazeale Nuclear Reactor, Penn State University, University Park, PA 16802

Edward Merritt, Purdue University, Nuclear Engineering Bldg., 400 Central Dr., West Lafayette, IN 47907-2017

Mr. Stephen G. Frantz, Director, Reed Reactor Facility, Reed College, 3203 SE Woodstock Blvd., Portland, OR 97202

Mr. Glenn C. Winters, Director, Rensselaer Polytechnic Institute, 110 8th Street, Nuclear Engineering and Science Building, Troy, NY 12180-3590

Mr. Terence Tehan, Rhode Island Atomic Energy Commission, Rhode Island Nuclear Science Center, 16 Reactor Road, Narragansett, RI 02882-1165

Mr. David Vasbinder, Occupational and Environmental Safety, University at Buffalo, 220 Winspear Avenue, Buffalo, NY 14214-1034

Mr. Robert O. Berry, Department of Nuclear Engineering, Texas A&M University, Mail Stop 3133, College Station, Texas 77843-3133

Mr. Jim Remlinger, Nuclear Science Center, Texas Engineering Experiment Station, 1095 Nuclear Science Road, College Station, Texas 77843

Mr. Tim DeBey, U.S. Geological Survey, 6th and Kipling, Denver Federal Center, Building 15, MS 974, Denver, Colorado 80225

Mr. John G. Williams, Nuclear Reactor Laboratory, University of Arizona, Old Engineering Building, Room 114, Tucson, AZ 85721-0020

Dr. David M. Slaughter, Director, UC Davis McClellan Nuclear Research Center, 5335 Price Avenue, McClellan, CA 95652

Dr. George Miller, Department of Chemistry, UC Irvine, 326 Rowland Hall, Irvine, CA 92697-2025

Dr. William Vernetson, Ph.D., Director of Nuclear Facilities, University of Florida, 202 Nuclear Science Building, Gainesville, FL 32611-8300

Mr. Rich Holm, 214 NEL, University of Illinois, 103 South Goodwin Avenue, Urbana, Illinois 61801

Mr. Vincent Adams, University of Maryland, Department of Materials & Nuclear Engineering, Bldg. 090 Room 2308, College Park, MD 20742-2115

Mr. Leo Bobek, Nuclear Radiation Laboratory, University of Massachusetts Lowell, One University Avenue, Pinanski Energy Center, Lowell, MA 01854

Mr. Chris Becker, Phoenix Memorial Laboratory, Ford Nuclear Reactor, University of Michigan, 2301 Bonisteel Boulevard, Ann Arbor, MI 48109-2100

Mr. Ralph Butler, MU Research Reactor, 1513 Research Park, Columbia, Missouri 65211

Mr. Bill Bonzer, Reactor Director, Nuclear Reactor Facility, 1870 Miner Circle, Rolla, MO 65409-0630

Dr. Robert D. Busch, Chief Reactor Supervisor, Chemical and Nuclear Engineering Department, University of New Mexico, 209 Farris Engineering Department, Albuquerque, NM 87131-1341

Mr. David S. O'Kelly, Nuclear Engineering Teaching Lab, University of Texas, 10100 Burnet Road, Austin, TX 78758

Mr. Paul E. Benneche, Acting Director, UVA Nuclear Reactor Facility, P.O. Box 400322, Charlottesville, VA 22904-4322

Dr. Melinda Krahenbuhl, 122 S. Central Campus Drive, Room 104, University of Utah, Salt Lake City, UT 84112

Mr. Robert J. Agasie, Reactor Director, Nuclear Reactor Laboratory, 1513 University Avenue, Room 141ME, University of Wisconsin, Madison, WI 53706-1687

Dr. Gerald E. Tripard, Nuclear Radiation Center, Roundtop Drive, Washington State University, Pullman, WA 99164-1300

Mr. Stephen J. LaFlamme, Director, Nuclear Reactor Facility, Worcester Polytechnic Institute, 100 Institute Road, Worcester, MA 01609-2280

Mr. Stanley Addison, RSO, Radiation Safety Office, 201 Hall Health Center, University of Washington, Seattle, WA 98195-4400

Mr. Erhard W. Koehler, Manager Direct Programs, U.S. Maritime Administration, 400 7th Street, Washington, DC 20590

Dr. Lynell W. Klassen, Associate Chief of Staff, Research and Development 151, Reactor Manager, Veterans Affairs Medical Center, 4101 Woolworth Avenue, Omaha, NE 68105

Mr. Marc DelVechio, Department of Public Safety, Rensselaer Polytechnic Institute, 110 Eighth Street, Troy, NY 12180-3590

Power Plants—Senior Executive Contacts

Mr. William Levis, Senior Vice President and Chief Nuclear Officer, PSEG Nuclear LLC-X15, Salem Nuclear Generating Station, Units 1 and 2, Hope Creek Generating Station, Unit 1, Docket Nos. 50-272, 50-311, & 50-354, License Nos. DPR-70, DPR-75, & NPF-57, End of Buttonwood Road, Hancocks Bridge, NJ 08038

Mr. Michael Kansler, President, Entergy Nuclear Operations, Inc., Pilgrim Nuclear Power Station, Unit 1, Vermont Yankee Nuclear Power Station, James A FitzPatrick Nuclear Power Plant, Indian Point Nuclear Generating Station, Units 2 and 3, Docket Nos. 50-293, 50,271, 50-333, 50-247, & 50-286, License Nos. DPR-35, DPR-28, DPR-59, DPR-26, & DPR-64, 440 Hamilton Avenue, White Plains, NY 10601

Mr. Gene St. Pierre, Site Vice President, FPL Energy, Seabrook Station, Unit 1, Docket No. 50-443, License No. NPF-86, Central Receiving, Lafayette Road, Seabrook, NH 03874

Mr. L. William Pearce, Vice President, FirstEnergy Nuclear Operating Company, Beaver Valley Power Station, Units 1 and 2, Docket Nos. 50-334 & 50-412, License Nos. DPR-66 & NPF-73, Route 168, Shippingport, PA 15077

Mr. George Vanderheyden, Vice President, Calvert Cliffs Nuclear Power Plant, Inc., Calvert Cliffs Nuclear Power Plant, Units 1 and 2, Docket Nos. 50-317 & 50-318, License Nos. DPR-53 & DPR-69, 1650 Calvert Cliffs Parkway, Lusby, MD 20657-4702

Mrs. Mary G. Korsnick, Vice President, R. E. Ginna Nuclear Power Plant, LLC, Docket No. 50-244, License No. DPR-18, 1503 Lake Road, Ontario, NY 14519-9364

Mr. James A. Spina, Vice President, Nine Mile Point Nuclear Station, LLC, Nine Mile Point Nuclear Station, Units 1 and 2, Docket Nos. 50-220 & 50-410, License Nos. DPR-63 & NPF-69, 348 Lake Road, Oswego, NY 13126

Mr. Britt T. McKinney, Senior Vice President and Chief Nuclear Officer, PPL Susquehanna, LLC, Susquehanna Steam Electric Station, Units 1 and 2, Docket Nos. 50-387 & 50-388, License Nos. NPF-14 & NPF-22, 769 Salem Boulevard, NUCSB3, Berwick, PA 18603-0467

Mr. David A. Christian, Sr. Vice President and Chief Nuclear Officer, Dominion Nuclear Connecticut, Inc., Virginia Electric and Power Company, Millstone Power Station, Units 2 and 3, North Anna Power Station, Units 1 and 2, Surry Power Station, Units 1 and 2, Docket Nos. 50-336, 50-423, 50-338, 50-339, & 50-280, & 50-281, License Nos. DPR-65, NPF-49, NPF-4, NPF-7, DPR-32, & DPR-37, Innsbrook Technical Center, 5000 Dominion Boulevard, Glen Allen, VA 23060

Mr. Dhiaa M. Jamil, Vice President, Duke Energy Corporation, Catawba Nuclear Station, Units 1 and 2, Docket Nos. 50-413 & 50-414, License Nos. NPF-35 & NPF-52, 4800 Concord Road, York, South Carolina 29745

Mr. L. M. Stinson, Vice President—Farley Project, Southern Nuclear Operating Company, Inc., Joseph M. Farley Nuclear Plant, Units 1 and 2, Docket Nos. 50-348 & 50-364, License Nos. NPF-2 & NPF-8, 40 Inverness Center Parkway, Birmingham, Alabama 35242

Mr. H. L. Sumner, Jr., Vice President—Nuclear, Hatch Project, Southern Nuclear Operating Company, Inc., Edwin I. Hatch Nuclear Plant, Units 1 and 2, Docket Nos. 50-321 & 50-366, License Nos. DPR-57 & NPF-5, 40 Inverness Center Parkway, Birmingham, Alabama 35242

Mr. G. R. Peterson, Vice President, Duke Energy Corporation, William B. McGuire Nuclear Station, Units 1 and 2, Docket Nos. 50-369 & 50-370, License Nos. NPF-9 & NPF-17, 12700 Hagers Ferry Road, Huntersville, NC 28078

Mr. Ronald A. Jones, Vice President, Oconee Site, Duke Energy Corporation, Oconee Nuclear Station, Units 1, 2 and 3, Docket Nos. 50-269, 50-270, & 50-287, License Nos. DPR-38, DPR-47, & DPR-55, 7800 Rochester Highway, Seneca, SC 29672

Mr. Don E. Grissette, Vice President, Southern Nuclear Operating Company, Inc., Vogtle Electric Generating Plant, Units 1 and 2, Docket Nos. 50-424 & 50-425, License Nos. NPF-68 & NPF-81, 40 Inverness Center Parkway, Birmingham, Alabama 35242

Mr. C. J. Gannon, Vice President, Carolina Power & Light Company, Progress Energy, Inc., Brunswick Steam Electric Plant, Units 1 and 2, Docket Nos. 50-325 & 50-324, License Nos. DPR-71 & DPR-62, Hwy 87, 2.5 Miles North, Southport, North Carolina 28461

Mr. James Scarola, Vice President, Carolina Power & Light Company, Shearon Harris Nuclear Power Plant, Unit 1, Docket No. 50-400, License No. NPF-63, 5413 Shearon Harris Road, New Hill, North Carolina 27562-0165

Mr. Dale E. Young, Vice President, Supervisor, Licensing and Regulatory Programs, Florida Power Corporation, Crystal River Nuclear Generating Plant, Unit 3, Docket No. 50-302, License No. DPR-72, 15760 W. Power Line Street, Crystal River, Florida 34428-6708

Mr. J. W. Moyer, Vice President Carolina Power & Light Company, Progress Energy, H. B. Robinson Steam Electric Plant, Unit 2, Docket No. 50-261, License No. DPR-23, 3581 West Entrance Road, Hartsville, South Carolina 29550

Mr. Brian J. O'Grady, Site Vice President, Browns Ferry Nuclear Plant, Units 1, 2 and 3, Tennessee Valley Authority, Docket Nos. 50-259, 50-260, & 50-296, License Nos. DPR-33, DPR-52, DPR-68, 10835 Shaw Rd., Athens, AL 35611

Mr. William R. Lagergren, Site Vice President, Watts Bar Nuclear Plant, Unit 1, Tennessee Valley Authority, Docket No. 50-390, License No. NPF-90, Highway 68 Near Spring City, Spring City, TN 37381

Mr. Randy Douet, Site Vice President, Sequoyah Nuclear Plant, Units 1 and 2, Tennessee Valley Authority, Docket Nos. 50-327 and 50-328, License Nos. DPR-77 and DPR-79, 2000 Iugo Ferry Road, Soddy Daisy, TN 37379

Mr. J. A. Stall, Senior Vice President, Nuclear and Chief Nuclear Officer, Florida Power and Light Company, St. Lucie, Units 1 and 2, Turkey Point Nuclear Generating Station, Units 3 and 4, Docket Nos. 50-335, 50-389, 50-250, & 50-251, License Nos. DPR-67, NPF-16, DPR-31, & DPR-41, 700 Universe Boulevard, Juno Beach, Florida 33408-0420

Mr. Mano K. Nazar, Senior Vice President and Chief Nuclear Officer, Indiana Michigan Power Company, Nuclear Generation Group, Donald C. Cook Nuclear Plant, Units 1 and 2, Docket Nos. 50-315 & 50-316, License Nos. DPR-58 & DPR-74, One Cook Place, Bridgman, MI 49106

Mr. Gary Van Middlesworth, Site Vice President, Nuclear Management Company, LLC, Duane Arnold Energy Center, Docket No. 50-331, License No. DPR-49, 3277 DAEC Road, Palo, IA 52324-9785

Mr. William T. O'Connor, Jr., Vice President—Nuclear Generation, Detroit Edison Company, Fermi, Unit 2, Docket No. 50-341, License No. NPF-43, 6400 North Dixie Highway, Newport, MI 48166

Mr. Michael G. Gaffney, Site Vice President, Kewaunee Nuclear Power Plant, Nuclear Management Company, LLC, Docket No. 50-305, License No. DPR-43, N490 Highway 42, Kewaunee, WI 54216-9511

Mr. John Conway, Site Vice President, Nuclear Management Company, LLC, Monticello Nuclear Generating Plant, Docket No. 50-263, License No. DPR-22, 2807 West County Road 75, Monticello, MN 55362-9637

Mr. Daniel J. Malone, Site Vice President, Nuclear Management Company, LLC, Palisades Nuclear Plant, Docket No. 50-255, License No. DPR-20, 27780 Blue Star Memorial Highway, Covert, MI 49043-9530

Mr. Dennis L. Koehl, Site Vice President, Nuclear Management Company, LLC, Point Beach Nuclear Plant, Units 1 and 2, Docket Nos. 50-266 & 50-301, License Nos. DPR-24 & DPR-27, 6590 Nuclear Road, Two Rivers, WI 54241-9516

Mr. Thomas J. Palmisano, Site Vice President, Nuclear Management Company, LLC, Prairie Island Nuclear Generating Plant, Units 1 and 2, Docket Nos. 50-282 & 50-306, License Nos. DPR-42 & DPR-60, 1717 Wakonade Drive East, Welch, MN 55089

Mr. Christopher M. Crane, President and Chief Nuclear Officer, Exelon Generation Company, LLC, AmerGen Energy Company, LLC, Braidwood Station, Units 1 and 2, Byron Station, Units 1 and 2, Dresden Nuclear Power Station, Units 2 and 3 , LaSalle County Station, Units 1 and 2, Quad Cities Nuclear Power Station, Units 1 and 2, Limerick Generating Station, Units 1 and 2, Peach Bottom Atomic Power Station, Units 2 and 3, Oyster Creek Nuclear Generating Station, Clinton Power Station, Three Mile Island Nuclear Station, Unit 1, Docket Nos. 50-456, 50-457, 50-454, 50-455, 50-237, 50-249, 50-373, 50-374, 50-254, 50-265, 50-352, 50-353, 50-277, 50-278, 50-219, 50-461, & 50-289, License Nos. NPF-72, NPF-77, NPF-37, NPF-66, DPR-19, DPR-25, NPF-11, NPF-18, DPR-29, DPR-30, NPF-39, NPF-85, DPR-44, DPR-56, DPR-16, NPF-62, & DPR-50 , 4300 Winfield Road, Warrenville, IL 60555

Mr. Mark Bezilla, Vice President, Davis-Besse, FirstEnergy Nuclear Operating Company, Davis-Besse Nuclear Power Station, Docket No. 50-346, License No. NPF-3, 5501 North State Route 2, Oak Harbor, OH 43449-9760

Mr. Richard Anderson, Vice President—Nuclear, FirstEnergy Nuclear Operating Company, Perry Nuclear Power Plant, Unit 1, Docket No. 50-440, License No. NPF-58, 10 North Center Street, Perry, OH 44081

Mr. Jeffrey S. Forbes, Site Vice President, Entergy Operations, Inc., Arkansas Nuclear One, Units 1 and 2, Docket Nos. 50-313 & 50-368, License Nos. DPR-51 & NPF-6, 1448 S. R. 333, Russellville, AR 72802

M. R. Blevins, Senior Vice President and Chief Nuclear Officer, TXU Generation Company, LP, Comanche Peak Steam Electric Station, Units 1 and 2, Docket Nos. 50-445 & 50-446, License Nos. NPF-87 & NPF-89, 5 Miles North of Glen Rose, Glen Rose, TX 76043

Mr. Randall K. Edington, Vice President-Nuclear and CNO, Nebraska Public Power District, Cooper Nuclear Station, Docket No. 50-298, License No. Dpr-46, 1200 Prospect Road, Brownville, NE 68321

Mr. George A. Williams, GGNS Vice President, Operations, Entergy Operations, Inc., Grand Gulf Nuclear Station, Unit 1, Docket No. 50-416, License No. NPF-29, Bald Hill Road-Waterloo Road, Port Gibson, MS 39150

Mr. Paul D. Hinnenkamp, Vice President—Operations, Entergy Operations, Inc., River Bend Station, Unit 1, Docket No. 50-458, License No. NPF-47, 5485 U.S. Highway 61N, St. Francisville, LA 70775

Mr. James J. Sheppard, President and Chief Executive Officer, South Texas Project Nuclear Operating Company, Docket Nos. 50-498 & 50-499, License Nos. NPF-76 & NPF-80, South Texas Project Electric Generating Company, Units 1 and 2, 8 Miles West of Wadsworth, on FM 521, Wadsworth, TX 77483

Mr. Joseph E. Venable, Vice President Operations, Entergy Operations, Inc., Waterford Steam Electric Generating Station, Unit 3, Docket No. 50-382, License No. NPF-38, 17265 River Road, Killona, LA 70057-2065

Mr. Charles D. Naslund, Senior Vice President and Chief Nuclear Officer, Union Electric Company, Callaway Plant, Unit 1, Docket No. 50-483, License No. NPF-30, Junction Hwy CC & Hwy O: 5 Miles North of Hwy 94, Portland, MO 65067

Mr. Gregory M. Rueger, Senior Vice President, Generation and Chief Nuclear Officer, Pacific Gas and Electric Company, Diablo Canyon Nuclear Power Plant, Units 1 and 2, Docket Nos. 50-275 & 50-323, License Nos. DPR-80 & DPR-82, 9 Miles Northwest of Avila Beach, Avila Beach, CA 93424

Mr. R. T. Ridenoure, Vice President—Chief Nuclear Officer, Omaha Public Power District, Fort Calhoun Station, Unit 1, Docket No. 50-285, License No. DPR-40, Fort Calhoun Station FC-2-4 Adm., 444 South 16th Street Mall, Omaha, NE 68102-2247

Mr. Gregg R. Overbeck, Senior Vice President, Nuclear, Arizona Public Service Company, Palo Verde Nuclear Generating Station, Units 1, 2 and 3, Docket Nos. 50-528, 50-529, & 50-530, License Nos. NPF-41, NPF-51, & NPF-74, 5801 S. Wintersburg Road, Tonopah, AZ 85354-7529

Mr. Harold B. Ray, Executive Vice President, Southern California Edison Company, San Onofre Nuclear Station, Units 2 and 3, Docket Nos. 50-361 & 50-362, License Nos. NPF-10 & NPF-15, 5000 Pacific Coast Highway, San Clemente, CA 92674

Mr. J. V. Parrish, Chief Executive Officer, Energy Northwest, Columbia Generating Station, Docket No. 50-397, License No. NPF-21, Snake River Warehouse, North Power Plant Loop, Richland, WA 99352

Mr. Rick A. Muench, President and Chief Executive Officer, Wolf Creek Nuclear Operating Corporation, Wolf Creek Generating Station, Unit 1, Docket No. 50-482, License No. NPF-42, 1550 Oxen Lane, NE, Burlington, KS 66839

Mr. Jeffrey B. Archie, Vice President, Nuclear Operations, South Carolina Electric and Gas Company, Virgil C. Summer Nuclear Station, Docket No. 50-395, License No. NPF-12, Hwy 215N at O.S. Bradham Boulevard, Jenkinsville, South Carolina 29065

[FR Doc. E5-4144 Filed 8-3-05; 8:45 am]

BILLING CODE 7590-01-P